DEPARTMENT OF THE INTERIOR

National Park Service

Urban Park and Recreation Recovery Program

AGENCY: National Park Service, Interior.

ACTION: Notice of FY 2002 grant round—UPARR Rehabilitation grants.

SUMMARY: This notice announces the availability of grant funds under the Rehabilitation phase of the Urban Park and Recreation Recovery (UPARR) Program and provides information on the application process including eligible recipients and deadlines for submission of proposals.

DATES: NPS will accept preapplications received on or before March 29, 2002.

ADDRESSES: See SUPPLEMENTARY INFORMATION section for NPS addresses.

FOR FURTHER INFORMATION CONTACT: Michael D. Wilson, Chief, Recreation Programs Division, or Wayne Strum, National Park Service, Department of the Interior, 1849 “C” Street, NW., Washington, DC 20240; (202) 565-1200.

SUPPLEMENTARY INFORMATION: For Fiscal Year 2002, $28,900,000 is available for funding of Rehabilitation projects under the Urban Park and Recreation Recovery Act of 1978 (Pub. L. 95-625). NPS will consider proposals for funding projects with a dollar limit of $1 million (Federal share of total project cost). Grants made in any one State shall not exceed in the aggregate 15 percent of the total available ($4,335,000). Preapplications must be received by the appropriate NPS field office by no later than March 29, 2002.

In order to minimize errors and to clarify program requirements, potential applicants are strongly encouraged to consult with the NPS field office during preparation of their proposals and to submit their preapplications prior to the above deadline.

Rehabilitation grants will be targeted to rehabilitate existing neighborhood recreation areas and facilities that have deteriorated to the point where health and safety are endangered or the community's range of quality recreation service is impaired. Proposals must be designed to provide recreation services within a specified area identified by the applicant. Proposals may identify improvements at multiple sites or facilities, each of which must be individually addressed. Grants may be used to remodel, rebuild, or develop existing outdoor or indoor recreation areas and facilities. Proposals that are entirely, or substantially oriented to expansion of existing facilities are not encouraged and will be closely scrutinized. If a UPARR project is part of a larger effort, the UPARR project, and its associated costs must be clearly separable and have a distinct budget for the UPARR portion of the effort.

Eligible Jurisdictions: Urban jurisdictions which have been determined eligible for the UPARR program are listed in 36 CFR part 72, appendix B. Eligible jurisdictions may compete for Rehabilitation grant funds if an approved Recovery Action Program (RAP) is on file with and approved by NPS. If a jurisdiction's RAP plan expired since FY 1995, the chief executive officer of that jurisdiction may submit either (1) a new or updated RAP for NPS review and approval, or (2) a letter of recertification. A letter of recertification must state that no significant changes have occurred in its assessment and action plan, and that the RAP remains current as a guide to community action and decision-making. In those cases where a jurisdiction has never submitted a RAP for participation in the UPARR program or its previously approved RAP plan expired prior to FY 1995, the chief executive officer of that jurisdiction may submit either (1) a new or updated RAP for NPS review and approval, or (2) copies of current budget, planning or other documents that reflect the jurisdiction's recreation priorities, policies, actions and decision-making processes; which when taken together, either satisfactorily update the pre-1995 RAP for the purposes of recertification or otherwise satisfies the RAP planning requirements for participation in the FY 2002 grant round. NPS may accept a recertification or approve the alternative RAP documentation through December 31, 2002, after which a new RAP is required. NPS may allow urban jurisdictions not on the list of eligibles to compete as a “discretionary” applicant if the jurisdiction is located in a Metropolitan Statistical Area and meets the criteria described in 36 CFR part 72, appendix A. All projects must be in accord with the priorities outlined in the recertified or approved RAP document.

Grant Implementation and Timing: Grantees must comply with all applicable Federal laws and regulations for the UPARR program, which includes completion of a final grant agreement within 120 days of a grant offer based on NPS evaluation of preapplications submitted for consideration.

Preapplication Requirements: The chief executive officer applying for a UPARR grant will be required to certify, in the preapplication, that the grantee will comply with all requirements of the UPARR program. Applicants must certify that they have adequate control and tenure over properties to be assisted through UPARR and must identify in their applications the type of control they have over those properties. Additional requirements are outlined in the “UPARR Preapplication Handbook” available from the NPS field offices (or on the internet at http://www.nps.gov/uparr).

Matching Requirements: UPARR Rehabilitation grants are awarded on a 70/30 (Federal/local) matching basis. As an incentive for state involvement in the program, the Federal Government will match, dollar for dollar, state contributions to the local share of the total project cost, up to 15 percent of the approved grant. The Federal share is limited to no more than 85 percent of the approved grant cost and the overall dollar limitations established above for Rehabilitation grants.

Pass-Through Funding: At the discretion of the applicant jurisdiction, grants may be transferred, in whole or in part, to independent general or special purpose local governments, private nonprofit agencies or community groups, and county or regional park authorities that provide recreation opportunities to the general population within the jurisdictional boundaries of the applicant jurisdiction. In such situations, the applicant jurisdiction will bear full legal responsibility and liability for passed-through funds.

Post-Completion Requirements: In accordance with section 1010 of the UPARR Act of 1978, assisted properties may not be converted to other than public recreation use without the prior approval of NPS and the replacement of the converted site or facility with one of reasonably equivalent usefulness and location. This provision applies to all Rehabilitation projects.

FOR FURTHER INFORMATION CONTACT: Interested jurisdictions should consult their NPS field office for further information including grant round schedule and for technical assistance in applying for funding. The NPS field offices are listed below:

Northeast

(CT, DC, DE, MA, MD, ME, NH, NJ, NY, PA, RI, VA, VT, WV)

Stewardship and Partnerships Team, Philadelphia Support Office, National Park Service, 200 Chestnut Street, 3rd Floor, Philadelphia, PA 19106, Tele: (215) 597-9195 (for all).

Southeast

(AL, FL, GA, KY, LA, MS, NC, PR, SC, TN, VI)

Recreation Programs Branch, Southeast Regional Office, National Park Service, Atlanta Federal Center, 1924 Building, 100 Alabama Street, SW., Atlanta, GA 30303, Tele: (404) 562-3175 (x530) (AL, FL, LA, MS, PR); (404) 562-3175 (x520) (GA, KY, TN); (404) 562-3175 (x519) (NC, SC).

Midwest

(AR, AZ, CO, IA, IL, IN, KS, MI, MN, MO, MT, ND, NE, NM, OH, OK, SD, TX, UT, WI, WY)

Partnerships—Grants, Midwest Regional Office, National Park Service, 1709 Jackson Street, Omaha, NE 68102-2571, Tele: (402) 221-7282 (AR, IL, MI); (402) 221-3292 (AZ, IN, OH); (402) 221-7283 (CO, MO, NE); (402) 221-3310 (IA, OK, TX); (402) 221-3205 (KS, MN, WI); (402) 221-3202 (MT, UT, WY); (402) 221-7270 (NM, ND, SD).

Pacific West

(AS, CA, CM, GU, HI, NV)

Planning and Partnerships Team, Pacific Great Basin Support Office, National Park Service, Suite 700, 1111 Jackson Street, Oakland, CA 94607, Tele: (510) 817-1445, 1324, 1454 (for all).

(AK, ID, OR, WA)

Partnerships Programs, Columbia Cascades Support Office, National Park Service, 909 First Avenue, Seattle, WA 98104-1060, Tele: (206) 220-4126 (for all).

Dated: December 11, 2001.
D. Thomas Ross,
Assistant Director, Recreation and Conservation.

[FR Doc. 02-382 Filed 1-7-02; 8:45 am]

BILLING CODE 4310-70-P